NUCLEAR REGULATORY COMMISSION

Sunshine Act Meeting Notice

Agency Holding the Meeting: Nuclear Regulatory Commission.

Date: Weeks of July 8, 15, 22, 29, August 5, 12, 2002.

Place: Commissioners' Conference Room, 11555 Rockville Pike, Rockville, Maryland.

Status: Public and Closed.

Matters To Be Considered:

Week of July 8, 2002

Wednesday, July 10, 2002

9:25 a.m.

Affirmation Session (Public Meeting) (If needed).

9:30 a.m.

Briefing on License Renewal Program and Power Uprate Review Activities (Public Meeting) (Contacts: Noel Dudley, 301-415-1154, for license renewal program; Mohammed Shuaibi, 301-415-2859, for power uprate review activities).

This meeting will be webcast live at the Web address www.nrc.gov.

2 p.m.

Meeting with Advisory Committee on Reactor Safeguards (ACRS) (Public Meeting) (Contact: John Larkins, 301-415-7360).

This meeting will be webcast live at the Web address www.nrc.gov.

Week of July 15, 2002—Tentative

Thursday, July 18, 2002

1:55 p.m.

Affirmation Session (Public Meeting) (If needed).

Week of July 22, 2002—Tentative

There are no meetings scheduled for the Week of July 22, 2002.

Week of July 29, 2002—Tentative

There are no meetings scheduled for the Week of July 29, 2002.

Week of August 5, 2002—Tentative

There are no meetings scheduled for the Week of August 5, 2002.

Week of August 12, 2002—Tentative

Tuesday, August 13, 2002

9:30 a.m.

Briefing on Special Review Group Response to the Differing Professional Opinion/Differing Professional View (DPO/DPV) Review (Public Meeting) (Contact: John Craig, 301-415-1703).

This meeting will be webcast live at the Web address www.nrc.gov.

The schedule for Commission meetings is subject to change on short notice. To verify the status of meetings call (recording)—(301) 415-1292. Contact person for more information: David Louis Gamberoni (301) 415-1651.

The NRC Commission Meeting Schedule can be found on the Internet at: www.nrc.gov/what-we-do/policy-making/schedule.html.

This notice is distributed by mail to several hundred subscribers; if you no longer wish to receive it, or would like to be added to the distribution, please contact the Office of the Secretary, Washington, DC 20555, (301-415-1969). In addition, distribution of this meeting notice over the Internet system is available. If you are interested in receiving this Commission meeting schedule electronically, please send an electronic message to dkw@nrc.gov.

Dated: July 3, 2002.
David Louis Gamberoni,
Technical Coordinator, Office of the Secretary.

[FR Doc. 02-17288 Filed 7-5-02; 11:25 am]

BILLING CODE 7590-01-M